DEPARTMENT OF COMMERCE

Economic Development Administration

[Docket No. 991215339-3104-06]

RIN: 0610-ZA14

National Technical Assistance, Training, Research, and Evaluation—Request for Grant Proposals

AGENCY: Economic Development Administration (EDA), Department of Commerce (DOC).

ACTION: Request for Grant Proposals (RFP) Upon Availability of Funds.

SUMMARY: The role of government is to create the conditions in which jobs are created, and in which people can find work. EDA is soliciting proposals to develop and disseminate, on a monthly basis, information on the reuse of former military bases for practitioners engaged in base redevelopment and economic development.

DATES: Prospective applicants are advised that proposals for funding under this program will be accepted through June 13, 2003, at either of the addresses provided below. Proposals received after 4 p.m. EDT, on June 13, 2003, will not be considered for funding.

By June 30, 2003, EDA will notify proposers whether they will be given further funding consideration. The successful proponent will be invited to submit an Application for Federal Assistance, OMB Control Number 0610-0094. The project will be funded as soon as possible, but no later than September 30, 2003.

ADDRESSES:

1. Proposals may be e-mailed to jmcnamee@eda.doc.gov, or

2. Proposals may be hand-delivered to: John J. McNamee, Director, Research and National Technical Assistance Division, Economic Development Administration, Room 1874, U.S. Department of Commerce, 1401 Constitution Avenue, NW., Washington, DC 20230, or

3. Proposals may be mailed to: John J. McNamee, Director, Research and National Technical Assistance Division, Economic Development Administration, Room 7019, U.S. Department of Commerce, 1401 Constitution Avenue, NW., Washington, DC 20230.

Proponents are encouraged to submit proposals by email. Proponents are advised that, due to mail security measures, receipt of U.S.P.S. mail may be delayed for up to two weeks. EDA will not accept proposals submitted by FAX.

FOR FURTHER INFORMATION CONTACT: John J. McNamee, (202) 482-4085; email: jmcnamee@eda.doc.gov.

SUPPLEMENTARY INFORMATION: In a previous notice published on April 9, 2003 (68 FR 17520), EDA stated that it would publish separate announcements for its National Technical Assistance, Training, Research, and Evaluation program. Pursuant to that notice, EDA publishes program requirements and solicits applications for this program.

I. Funding Availability

Funds appropriated under Pub. L. 107-248 to the Department of Defense will be transferred to EDA under authority of 42 U.S.C. 3214(c) for this project. In FY 2002, EDA funded a one year information dissemination project on the reuse of military bases with a $35,000 award. This project differs significantly in that the initial performance period is for two years and it involves substantial in-depth analysis of aspects of base redevelopment. As a result, EDA anticipates this project will cost more.

The award will be in the form of a cooperative agreement. In funding cooperative agreements, a common example of substantial involvement is collaboration between EDA program staff and the recipient of this information dissemination award to establish an editorial board to comment on stories and to suggest and select themes for future feature stories.

II. Authority

The authority for the program listed above is the Public Works and Economic Development Act of 1965, as amended (Pub. L. 89-136, 42 U.S.C. 3121 et seq.), and as further amended by Pub. L. 105-393.

III. Eligibility

Eligible recipients of EDA financial assistance are defined at 13 CFR 300.2 and eligible applicants are specified at 13 CFR 301.1. An “area” is an eligible recipient and is defined at 13 CFR 301.2. One category of the areas eligible for financial assistance are those areas meeting the “special needs” criteria. The special needs criteria are published in Part XV of the Federal Register notice of April 9, 2003 (68 FR 17524).

IV. Proposal Format

Each proposal submitted must include:

1. A description of how the proposer(s) intend(s) to carry out the scope of work (not to exceed 10 pages in length);

2. A proposed budget and accompanying explanation;

3. Resumes/qualifications of key staff (not to exceed two pages per individual, with an additional two pages allowed for a single summary description of all organizations/consultants named in the proposal); and

4. A proposed schedule for completion of the project.

V. Evaluation and Selection Process

To apply for an award under this request, an eligible recipient must submit a proposal to EDA during the specified timeframe, at one of the addresses specified above. Proposals that do not meet all items required or that exceed the page limitations of Section IV of this RFP, will be considered nonresponsive, and will not be considered. Proposals that meet all the requirements will be evaluated by a review panel comprised of at least three members all of whom will be full-time federal employees. The panel first evaluates the proposals using the general evaluation criteria set forth in 13 CFR 304.1 and 304.2 as further defined by the supplemental evaluation criteria set forth in Part VI of the Federal Register notice published on April 9, 2003 (68 FR 17521). Proposals that meet these threshold criteria will then be evaluated by the panel using the following three criteria of approximate equal weight:

(1) The quality of a proposal's response to the Scope of Work and other requirements described in Section VI below;

(2) The ability of the prospective applicant to successfully carry out the proposed activities. This will include an evaluation of the qualifications of the proposed staff, the use and cost of travel, how applicant expertise will be supplemented through the use of contractors or consultants, how the potential applicant plans to work cooperatively with economic development organizations, how the target audience will be identified and reached, and both the quality of the potential applicant's suggestions for feature story topics and the methodology that will be used to identify future topics; and

(3) Cost to the federal government.

The Assistant Secretary for Economic Development is the Selecting Official. He may not make any selection, or he may substitute one of the lower rated proposals, if he determines that it better meets the overall objectives of the Public Works and Economic Development Act of 1965, as amended (Pub. L. 89-136, 42 U.S.C. 3121 et seq.), and as further amended by Pub. L. 105-393.

If a proposal is selected, EDA will provide the proponent with an Application for Federal Assistance (OMB Control Number 0610-0094).

VI. Areas of Special Interest

EDA is inviting proposals for National Technical Assistance, Training, Research, and Evaluation as described below.

Program: National Technical Assistance—(Pub. L. 89-136, as Amended by Pub. L. 105-393, 42 U.S.C. 3147)

(Catalog of Federal Domestic Assistance: 11.303 Economic Development Technical Assistance)

Background: As part of its ongoing mission to assist communities in reusing former military bases, EDA supports the dissemination of information to economic development practitioners engaged in base reuse. The intent of disseminating this information is to broadly convey how reuse works successfully, to increase the knowledge of practitioners, and to attract innovative practitioners into the field of redeveloping former military bases.

Scope of Work:

The successful applicant will:

(1) Develop and disseminate, on alternate months,

(a) Three to five “news” stories reporting on activities at former military bases. The 300-1,000 word news stories will answer, for example, why particular end-users chose a particular base, rather than just announcing that they did; and

(b) “Feature” stories on major base-reuse topics. The 2,000-5,000 word (with a few appropriate charts or diagrams) feature stories will show how practitioners engaged in base redevelopment solved specific challenges in reusing the former military bases that closed in the 1990s. They will not be “policy studies” that address the strengths or weaknesses of federal base closure programs and legislation. Rather, feature stories will analyze in-depth one particular aspect of base redevelopment at one to three former bases; for example, how did redevelopers structure environmental service cooperative agreements to facilitate redevelopment, and reduce the cost of site preparation and regulatory burden. Issues with news and feature stories will alternate each month, six each per year.

(2) Disseminate news and feature stories widely, using existing electronic networks for economic development practitioners engaged in the reuse of both military bases and non-military facilities.

(3) Establish with the grantor a 3-5 member editorial board to comment on stories and to suggest and select themes for future feature stories. Topics for initial feature stories on base redevelopment will include: how to blend grant, municipal debt, asset sales, and private equity to finance infrastructure; how environmental service cooperative agreements can become a redevelopment tool; when planning and zoning alone are sufficient to direct redevelopment. Other topics may be proposed in the application, but must then be adopted by the editorial board.

Timing: The initial award and funding periods will be for two years from the date of approval. However, those periods may be amended to cover an additional two-year period resulting in four-year award and funding periods, subject to funding availability, satisfactory performance under the initial award, and at the sole discretion of EDA.

Additional Requirement: The proposed information dissemination should not be primarily for the benefit of the grantee or the grantee's members, or a localized geographic area.

VII. Other Information and Requirements

EDA regulations at 13 CFR Chapter III are available on the EDA Web site at http://www.doc.gov/eda. The Department of Commerce Pre-Award Notification Requirements for Grants and Cooperative Agreements contained in the Federal Register notice of October 1, 2001 (66 FR 49917), as amended by the Federal Register notice published on October 30, 2002 (67 FR 66109), are applicable to this solicitation and can be found on EDA's Web site http://www.doc.gov/eda.

A. Ordinarily, the applicant is expected to provide a 50% non-federal share of project costs. However, EDA may reduce or waive the required 50% matching share of the total project costs, provided the applicant demonstrates: (1) The project is not feasible without a reduction or waiver and the project merits a reduction or waiver, or (2) the requirements of 13 CFR 301.4(b) are satisfied.

B. Notwithstanding any other provision of law, no person is required to respond to, nor shall a person be subject to a penalty for failure to comply with a collection of information subject to the requirements of the Paperwork Reduction Act (PRA) unless that collection of information displays a currently valid Office of Management and Budget (OMB) control number. This notice involves a collection of information requirement subject to the provisions of the PRA and has been approved by OMB under Control Number 0610-0094. The EDA application (ED-900A), which incorporates the SF-424, are the forms in the EDA application kit, approved under the aforementioned OMB control number.

C. If an application is selected for funding, EDA has no obligation to provide any additional future funding in connection with an award. Renewal of an award to increase funding or extend the period of performance is at the sole discretion of EDA.

D. EDA is committed to a policy of non-discrimination in the administration of all its programs.

E. EDA will notify unsuccessful proposers in writing and unsuccessful proposals will be maintained for not more than three years from the date of receipt.

F. This Notice has been determined to be “not significant” for purposes of Executive Order 12866.

G. It has been determined that this notice does not contain policies with Federalism implications as that term is defined in Executive Order 13132.

H. The rulemaking requirements of 5 U.S.C. 553 are not applicable to this notice relating to public property, loans, grants, benefits or contracts (5 U.S.C. 5553(a)(2)). Because notice and comment are not required under 5 U.S.C. 553, or any other law for this rule, the analytical requirements of the Regulatory Flexibility Act (5 U.S.C. 601) are not applicable. Thus, a Regulatory Flexibility Analysis is not required and has not been prepared for this rule.

Dated: May 6, 2003.
David A. Sampson,
Assistant Secretary for Economic Development.

[FR Doc. 03-11953 Filed 5-13-03; 8:45 am]

BILLING CODE 3510-24-P